DEPARTMENT OF TRANSPORTATION

Federal Motor Carrier Safety Administration

[Docket No. FMCSA-2023-0100]

Agency Information Collection Activities; Renewal of an Approved Information Collection: Accident Recordkeeping Requirements

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew the ICR titled “Accident Recordkeeping Requirements.” This ICR relates to Agency requirements that motor carriers maintain a record of accidents involving their commercial motor vehicles (CMVs). Motor carriers are not required to report this data to FMCSA, but must produce it upon inquiry by authorized Federal, State, or local officials.

DATES: Comments on this notice must be received on or before October 10, 2023.

ADDRESSES: You may submit comments identified by Federal Docket Management System (FDMS) Number FMCSA-2023-0100 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, Washington, DC 20590-0001 between 9 a.m. and 5 p.m. ET, Monday through Friday, except Federal holidays.

• Fax: (202) 493-2251.

Each submission must include the Agency name and the docket number (FMCSA-2023-0100) for this notice. Note that DOT posts all comments received without change to www.regulations.gov, including any personal information included in a comment. Please see the Privacy Act heading below.

Docket: For access to the docket to read background documents or comments received, go to https://www.regulations.gov and follow the online instructions for accessing the docket, or go to the street address listed above.

Privacy Act: In accordance with 49 U.S.C. 553(c), DOT solicits comments from the public to better inform its rulemaking process. DOT posts these comments, without edit, including any personal information the commenter provides, to www.regulations.gov, as described in the system of records notice DOT/ALL-14 FDMS, which can be reviewed at https://www.transportation.gov/privacy, the comments are searchable by the name of the submitter.

FOR FURTHER INFORMATION CONTACT: Ms. Pearlie Robinson, Driver and Carrier Operations Division, DOT, FMCSA, West Building, 6th Floor, 1200 New Jersey Avenue SE, Washington, DC 20590-0001; 202-366-4225; pearlie.robinson@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

FMCSA encourages you to participate by submitting comments and related materials. If you submit a comment, please include the docket number for this notice (FMCSA-2023-0100), indicate the specific section of this document to which the comment applies and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2023-0100” in the “Keyword” box, and click “Search.” Next, sort the results by “Posted (Newer-Older),” choose the first notice listed, click the “Comment” button, and type your comment into the text box on the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Background

Title 49 of the Code of Federal Regulations (CFR), 390.15(b), requires motor carriers to make certain specified records and information pertaining to CMV accidents available to an authorized representative or special agent of FMCSA upon request or as part of an inquiry. Motor carriers are required to maintain an “accident register” consisting of information concerning all “accidents” involving their CMVs (§ 390.15(b) (see “Definition: Accident” below)). The following information must be recorded for each accident: date, location, driver name, number of injuries, number of fatalities, and whether certain dangerous hazardous materials were released. In addition, the motor carrier must maintain copies of all accident reports required by insurers or governmental entities. Motor carriers must maintain this information for 3 years after the date of the accident. Section 390.15 does not require motor carriers to submit any information or records to FMCSA or any other party.

This ICR supports the DOT strategic goal of safety. By requiring motor carriers to gather and record information concerning CMV accidents, FMCSA is strengthening its ability to assess the safety performance of motor carriers. This information is a valuable resource in Agency initiatives to prevent, and reduce the severity of, CMV crashes.

The Agency has modified several of its estimates for this ICR. The estimated number of annual respondents have increased, while the number of responses, burden hours, and annual costs to respondents have decreased. Explanations for these changes are summarized below.

The previously-approved burden is 55,425 burden hours. The Agency decreases its estimate to 48,760 burden hours. The text of § 390.15(b) is unchanged; the decrease in burden hours does not reflect changes in the requirements for accident recordkeeping. The adjustment in annual burden hours is due to an increase in the number of annual respondents from 89,270 to 93,280, and a decrease in the estimate of the number of reportable accidents from 184,749 to 162,533 per year, using interstate and intrastate DOT-reportable motor carrier crash records in FMCSA's Motor Carrier Management Information System for calendar years 2020 through 2022.

This ICR includes estimated labor costs associated with maintaining the Accident Register. The estimated annual labor cost for industry resulting from the Accident Register reporting requirements is decreased from $1,860,617 to $1,507,169.

Finally, the estimated annual cost associated with accident recordkeeping (outside of labor costs) is decreased from $106,785 to $93,944. In the current iteration of this ICR, FMCSA is assuming that (1) approximately 15 percent of motor carriers are storing their Accident Registers electronically, at no extra cost, and (2) approximately 85 percent of motor carriers are storing hard copy versions of their Accident Registers. FMCSA is further assuming that motor carriers that maintain paper records are storing their Accident Registers at their primary place of business, so that they have easy access to such records during an FMCSA investigation.

Title: Accident Recordkeeping Requirements.

OMB Control Number: 2126-0009.

Type of Request: Renewal of a currently approved collection.

Respondents: Motor carriers.

Estimated Number of Respondents: 93,280.

Estimated Time per Response: 18 minutes.

Expiration Date: February 29, 2024.

Frequency of Response: On occasion.

Estimated Total Annual Burden: 48,760 burden hours (162,533 accidents × 18 minutes per response/60 minutes in an hour = 48,760 hours).

Definitions: Accident is an occurrence involving a CMV operating on a public road which results in: (1) a fatality, (2) bodily injury to a person who, as a result of the injury, immediately receives medical treatment away from the scene of the accident, or (3) one or more motor vehicles incurring disabling damage as a result of the accident, requiring the motor vehicle(s) to be transported away from the scene by a tow truck or other motor vehicle (§ 390.5).

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2023-16954 Filed 8-7-23; 8:45 am]

BILLING CODE 4910-EX-P